DEPARTMENT OF ENERGY

Federal Energy Regulatory Commission

Combined Notice of Filings #1

Take notice that the Commission received the following electric corporate filings:

Docket Numbers: EC24-51-000.

Applicants: Midway Sunset Cogeneration Company.

Description: Midway-Sunset Cogeneration Company submits Application for Authorization Under Section 203 of the Federal Power Act.

Filed Date: 2/27/24.

Accession Number: 20240227-5228.

Comment Date: 5 p.m. ET 4/12/24.

Take notice that the Commission received the following exempt wholesale generator filings:

Docket Numbers: EG24-121-000.

Applicants: Elawan Pitts Dudik Solar II, LLC.

Description: Elawan Pitts Dudik Solar II, LLC submits Notice of Self-Certification of Exempt Wholesale Generator Status.

Filed Date: 2/28/24.

Accession Number: 20240228-5216.

Comment Date: 5 p.m. ET 3/20/24.

Take notice that the Commission received the following electric rate filings:

Docket Numbers: ER23-2234-002; ER10-2124-027; ER10-2125-028; ER10-2127-026; ER10-2128-027; ER10-2131-031; ER10-2132-027; ER10-2133-028; ER10-2137-031; ER10-2138-032; ER10-2139-032; ER10-2140-031; ER10-2141-031; ER10-2596-015; ER10-2764-027; ER11-2029-010; ER11-3872-029; ER11-4044-033; ER11-4046-032; ER12-2200-011; ER14-2187-025; ER14-2799-022; ER15-1873-019; ER16-2035-005; ER16-2449-005; ER17-2088-005; ER18-471-013; ER18-1197-010; ER20-2444-007; ER20-2445-007; ER21-136-006; ER21-258-008; ER21-628-005; ER21-1838-006; ER21-2137-011; ER21-2715-006; ER21-2716-006; ER22-1999-005; ER22-2091-005; ER22-2474-003; ER22-2475-003; ER23-644-002; ER23-645-002; ER23-646-003; ER23-647-003; ER23-1846-003; ER23-2233-002; ER23-2235-002; ER23-2236-002; ER23-2237-002; ER23-2238-002; ER23-2240-002; ER23-2241-002; ER23-2242-002; ER23-2243-002; ER23-2244-002; ER23-2245-002; ER23-2668-002; ER23-2726-001; ER23-2746-001; ER23-2895-001.

Applicants: Hardin Solar Energy II LLC, El Sol Storage LLC, Walnut Bend Solar LLC, Richfield Solar Energy LLC, Pixley Solar Energy LLC, Pixley Solar Energy Holdings LLC, Lazbuddie Wind Energy LLC, Lazbuddie Wind Energy Holdings LLC, Flat Ridge 5 Wind Energy LLC, Flat Ridge 5 Wind Energy Holdings LLC, Flat Ridge 4 Wind, LLC, Flat Ridge 4 Wind Holdings LLC, Chisholm Trail Solar Energy LLC, Chisholm Trail Solar Energy Holdings LLC, Algodon Solar Energy Holdings LLC, Boomtown Solar Energy LLC, Diversion Wind Energy Holdings LLC, Wagon Wheel Wind Project Holdings LLC, Wagon Wheel Wind Project, LLC, Diversion Wind Energy LLC, Top Hat Wind Energy Holdings LLC, Top Hat Wind Energy LLC, Calhoun Solar Energy LLC, Number Three Wind LLC, Fairbanks Solar Holdings LLC, Fairbanks Solar Energy Center LLC, IR Energy Management LLC, Orangeville Energy Storage LLC, Harry Allen Solar Energy LLC, Todd Solar LLC, Flat Ridge 3 Wind Energy, LLC, Prineville Solar Energy LLC, Millican Solar Energy LLC, Camilla Solar Energy LLC, States Edge Wind I LLC, Apple Blossom Wind, LLC, Boulder Solar II, LLC, Black Oak Wind, LLC, Buckeye Wind Energy LLC, Beech Ridge Energy Storage LLC, Grand Ridge Energy Storage LLC, Mehoopany Wind Energy LLC, Gratiot County Wind II LLC, Gratiot County Wind LLC, Stony Creek Energy LLC, Cedar Creek II, LLC, Vantage Wind Energy LLC, Fowler Ridge II Wind Farm LLC, Grand Ridge Energy V LLC, Grand Ridge Energy IV LLC, Grand Ridge Energy III LLC, Grand Ridge Energy II LLC, Beech Ridge Energy LLC, Sheldon Energy LLC, Willow Creek Energy LLC, Grand Ridge Energy LLC, Wolverine Creek Energy LLC, Invenergy TN LLC, Judith Gap Energy LLC, Spring Canyon Energy LLC, Algodon Solar Energy LLC.

Description: Notice of Change in Status of Algodon Solar Energy LLC, et al.

Filed Date: 2/27/24.

Accession Number: 20240227-5198.

Comment Date: 5 p.m. ET 3/19/24.

Docket Numbers: ER24-523-001.

Applicants: Alabama Power Company, Georgia Power Company, Mississippi Power Company.

Description: Tariff Amendment: Alabama Power Company submits tariff filing per 35.17(b): SR Hope Hull LGIA Deficiency Response to be effective 11/20/2023.

Filed Date: 2/28/24.

Accession Number: 20240228-5120.

Comment Date: 5 p.m. ET 3/20/24.

Docket Numbers: ER24-1203-000.

Applicants: System Energy Resources, Inc.

Description: Formal Challenge of Retail Regulators to January 31, 2024, Annual Informational Filing by System Energy Resources, Inc.

Filed Date: 2/28/24.

Accession Number: 20240228-5138.

Comment Date: 5 p.m. ET 3/29/24.

Docket Numbers: ER24-1343-000.

Applicants: MS Solar 6, LLC.

Description: Initial rate filing: MS Solar 6 Co-Tenancy and Shared Facilities Agreement Filing to be effective 2/28/2024.

Filed Date: 2/27/24.

Accession Number: 20240227-5186.

Comment Date: 5 p.m. ET 3/19/24.

Docket Numbers: ER24-1344-000.

Applicants: MS Solar 5, LLC.

Description: Initial rate filing: MS Solar 5 Certificate of Concurrence to SFA filing to be effective 2/28/2024.

Filed Date: 2/27/24.

Accession Number: 20240227-5192.

Comment Date: 5 p.m. ET 3/19/24.

Docket Numbers: ER24-1345-000.

Applicants: RB Inyokern Solar WDAT 1281 LLC.

Description: Baseline eTariff Filing: RB Inyokern Solar WDAT 1281 LLC MBR Tariff to be effective 4/28/2024.

Filed Date: 2/27/24.

Accession Number: 20240227-5207.

Comment Date: 5 p.m. ET 3/19/24.

Docket Numbers: ER24-1346-000.

Applicants: RB Inyokern Solar WDAT 1203 LLC.

Description: Baseline eTariff Filing: RB Inyokern Solar WDAT 1203 LLC MBR Tariff to be effective 4/28/2024.

Filed Date: 2/27/24.

Accession Number: 20240227-5209.

Comment Date: 5 p.m. ET 3/19/24.

Docket Numbers: ER24-1347-000.

Applicants: Atrisco BESS SF LLC.

Description: Baseline eTariff Filing: LGIA Co-Tenancy Agreement and Shared Facilities Agreement to be effective 5/1/2024.

Filed Date: 2/28/24.

Accession Number: 20240228-5013.

Comment Date: 5 p.m. ET 3/20/24.

Docket Numbers: ER24-1348-000.

Applicants: Atrisco Solar LLC.

Description: Baseline eTariff Filing: LGIA Co-Tenancy Agreement and Shared Facilities Agreement to be effective 5/1/2024.

Filed Date: 2/28/24.

Accession Number: 20240228-5014.

Comment Date: 5 p.m. ET 3/20/24.

Docket Numbers: ER24-1349-000.

Applicants: Atrisco Energy Storage LLC.

Description: Baseline eTariff Filing: LGIA Co-Tenancy Agreement and Shared Facilities Agreement to be effective 5/1/2024.

Filed Date: 2/28/24.

Accession Number: 20240228-5015.

Comment Date: 5 p.m. ET 3/20/24.

Docket Numbers: ER24-1350-000.

Applicants: Atrisco Solar SF LLC.

Description: Baseline eTariff Filing: LGIA Co-Tenancy Agreement and Shared Facilities Agreement to be effective 5/1/2024.

Filed Date: 2/28/24.

Accession Number: 20240228-5016.

Comment Date: 5 p.m. ET 3/20/24.

Docket Numbers: ER24-1351-000.

Applicants: Quail Ranch BESS SF LLC.

Description: Baseline eTariff Filing: LGIA Co-Tenancy Agreement and Shared Facilities Agreement to be effective 5/1/2024.

Filed Date: 2/28/24.

Accession Number: 20240228-5017.

Comment Date: 5 p.m. ET 3/20/24.

Docket Numbers: ER24-1352-000.

Applicants: Quail Ranch Solar LLC.

Description: Baseline eTariff Filing: LGIA Co-Tenancy Agreement and Shared Facilities Agreement to be effective 5/1/2024.

Filed Date: 2/28/24.

Accession Number: 20240228-5018.

Comment Date: 5 p.m. ET 3/20/24.

Docket Numbers: ER24-1353-000.

Applicants: Quail Ranch Solar SF LLC.

Description: Baseline eTariff Filing: LGIA Co-Tenancy Agreement and Shared Facilities Agreement to be effective 5/1/2024.

Filed Date: 2/28/24.

Accession Number: 20240228-5019.

Comment Date: 5 p.m. ET 3/20/24.

Docket Numbers: ER24-1354-000.

Applicants: Quail Ranch Energy Storage LLC.

Description: Baseline eTariff Filing: LGIA Co-Tenancy Agreement and Shared Facilities Agreement to be effective 5/1/2024.

Filed Date: 2/28/24.

Accession Number: 20240228-5023.

Comment Date: 5 p.m. ET 3/20/24.

Docket Numbers: ER24-1357-000.

Applicants: PJM Interconnection, L.L.C.

Description: Tariff Amendment: Cancellation of WMPA, SA No. 4840; AC2-174 re: Breach to be effective 4/29/2024.

Filed Date: 2/28/24.

Accession Number: 20240228-5046.

Comment Date: 5 p.m. ET 3/20/24.

Docket Numbers: ER24-1358-000.

Applicants: Southwest Power Pool, Inc.

Description: 205(d) Rate Filing: 3101R6 Heartland Consumers Power District NITSA NOA to be effective 2/1/2024.

Filed Date: 2/28/24.

Accession Number: 20240228-5056.

Comment Date: 5 p.m. ET 3/20/24.

Docket Numbers: ER24-1359-000.

Applicants: Midcontinent Independent System Operator, Inc., Michigan Electric Transmission Company, LLC, Consumers Energy Company.

Description: 205(d) Rate Filing: Midcontinent Independent System Operator, Inc. submits tariff filing per 35.13(a)(2)(iii: 2024-02-28_SA 1756 METC-Consumers Energy 17th Rev GIA (G479B) to be effective 2/1/2024.

Filed Date: 2/28/24.

Accession Number: 20240228-5085.

Comment Date: 5 p.m. ET 3/20/24.

Docket Numbers: ER24-1360-000.

Applicants: Tri-State Generation and Transmission Association, Inc.

Description: 205(d) Rate Filing: Initial Filing of Facilities Use Agreement to be effective 4/29/2024.

Filed Date: 2/28/24.

Accession Number: 20240228-5197.

Comment Date: 5 p.m. ET 3/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 28, 2024.
Debbie-Anne A. Reese,
Acting Secretary.

[FR Doc. 2024-04645 Filed 3-4-24; 8:45 am]

BILLING CODE 6717-01-P